DEPARTMENT OF STATE

[Public Notice 7952]

60-Day Notice of Proposed Information Collection: Passport Demand Forecasting Study Phase III

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Passport Demand Forecasting Study Phase III.

• OMB Control Number: None.

• Type of Request: Reinstatement of a previous collection.

• Originating Office: Bureau of Consular Affairs/Passport Services (CA/PPT)

• Form Number: SV-2012-0006.

• Respondents: A national representative sample of U.S. Citizens, Nationals, and any other categories of individuals that are entitled to a U.S. Passport product.

• Estimated Number of Respondents: 4,000 survey respondents per month.

• Estimated Number of Responses: 48,000 survey respondents per annually.

• Average Hours Per Response: 10 minutes per survey.

• Total Estimated Burden: 8,000 hours annually.

• Frequency: Monthly.

• Obligation to Respond: Voluntary.

DATES: The Department will accept comments from the public up to 60 days from July 11, 2012.

ADDRESSES: You must include the DS form number (if applicable), information collection title, and OMB control number in any correspondence.

FOR FURTHER INFORMATION CONTACT: Send direct requests for additional information regarding the collection listed in this notice, including requests for copies of the proposed information collection and supporting documents to PassportSurvey@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: The Intelligence Reform and Terrorism Prevention Act calls for the Secretary of Homeland Security, along with the Secretary of State, to develop and implement a plan that requires sufficient documentation of citizenship and identity to be shown when entering the United States. The requirement above, along with other socio-demographic variables has left the future demand for U.S. Passport products as undefined. The ambiguity of passport demand has resulted in Passport Services having an urgent need to obtain regular statistical data on issues that focus on and are related to passport applications and travel. In support of these efforts, Passport Services will conduct monthly forecasts of passport demand. The data gathered from the Passport Demand Forecasting Study Phase III will be used to monitor, assess, and forecast passport demand on a continuous basis.

Methodology: Passport Services is conducting a Passport Demand Forecast Study that will include monthly survey to collect data from a national representative sample of U.S. Citizens, Nationals and any other categories of individuals that are entitled to a U.S. Passport product using multiple methodologies. Methodologies can include mail, web/internet, telephone, and mixed-mode surveys to ensure that Passport Services reaches the appropriate audience and leverages the best research method to obtain valid responses. The survey data will cover an estimated 48,000 respondents annually and will include topics covering passport demand, travel, and socio-demographic variables of interest to the United States Department of State.

Dated: July 3, 2012.
Barry J. Conway,
Managing Director, Passport Support Operations, Bureau of Consular Affairs, Department of State.

[FR Doc. 2012-16974 Filed 7-10-12; 8:45 am]

BILLING CODE 4710-06-P